DEPARTMENT OF COMMERCE

International Trade Administration

[A-583-816]

Notice of Postponement of Preliminary Results of Antidumping Duty Administrative Review: Certain Stainless Steel Butt-weld Pipe Fittings from Taiwan

AGENCY: Import Administration, International Trade Administration, Department of Commerce.

ACTION: Notice of postponement of preliminary results of antidumping duty administrative review.

EFFECTIVE DATE: March 6, 2000.

FOR FURTHER INFORMATION CONTACT: Doreen Chen or Robert Bolling, Office IX, DAS Group III, Import Administration, International Trade Administration, U.S. Department of Commerce, 14th Street and Constitution Avenue NW, Washington, DC 20230; telephone (202) 482-0408 and (202) 482-3434, respectively.

POSTPONEMENT OF PRELIMINARY DETERMINATION: The Department of Commerce (the Department) is postponing the preliminary results in the antidumping administrative review of Certain Stainless Steel Butt-weld Pipe Fittings (SSBWPF) from Taiwan. The deadline for issuing the preliminary results in this administrative review is now June 28, 2000.

On July 29, 1999, the Department initiated this administrative review, setting February 29, 1999 as the date for issuing the preliminary results of the review. See Initiation of Antidumping and Countervailing Duty Administrative Reviews and Requests for Revocation in Part, 64 FR 41075 (July 29, 1999). On January 31, 2000 the Department issued a supplemental questionnaire to the respondent, Ta Chen Stainless Steel Pipe, Ltd. (Ta Chen). On February 2, 2000, Ta Chen requested an extension of time to respond to the Department's supplemental questionnaire from February 14, 2000 to March 15, 2000. On February 11, 2000, we granted Ta Chen an extension until March 3, 2000 to respond to our supplemental questionnaire. Further, for the reasons stated in the February 24, 2000 memorandum from Edward Yang to Joseph Spetrini: Extension of Time Limit for the Administrative Review of Certain Stainless Steel Butt-Weld Pipe Fittings from Taiwan, we determine that it is not practicable to complete the review within the normal time frame and are therefore extending the time limit for the preliminary results of the administrative review of SSBWPF from Taiwan by 120 days, in accordance with section 751(a)(3) of the Tariff Act of 1930, as amended.

The date for issuing the preliminary results is moved from February 29, 2000 to June 28, 2000.

Dated: February 23, 2000.
Joseph A. Spetrini,
Deputy Assistant Secretary, AD/CVD Enforcement Group III.

[FR Doc. 00-5370 Filed 3-3-00; 8:45 am]

BILLING CODE 3510-DS-P